DEPARTMENT OF AGRICULTURE

Food and Nutrition Service

Emergency Food Assistance Program; Availability of Commodities for Fiscal Year 2008

AGENCY: Food and Nutrition Service, USDA.

ACTION: Notice.

SUMMARY: This notice announces the surplus and purchased commodities that the Department expects to make available for donation to States for use in providing nutrition assistance to the needy under the Emergency Food Assistance Program (TEFAP) in Fiscal Year (FY) 2008. The commodities made available under this notice must, at the discretion of the State, be distributed to eligible recipient agencies for use in preparing meals and/or for distribution to households for home consumption.

DATES: Effective Date: October 1, 2007.

FOR FURTHER INFORMATION CONTACT: Lillie Ragan, Assistant Branch Chief, Policy Branch, Food Distribution Division, Food and Nutrition Service, U.S. Department of Agriculture, 3101 Park Center Drive, Alexandria, Virginia 22302-1594 or telephone (703) 305-2662.

SUPPLEMENTARY INFORMATION: In accordance with the provisions set forth in the Emergency Food Assistance Act of 1983 (EFAA), 7 U.S.C. 7501 note, the Food Stamp Act of 1977, 7 U.S.C. 2011, et seq., and the Consolidated Appropriations Act, 2008, the Department makes commodities and administrative funds available to States for use in providing nutrition assistance to those in need through TEFAP. In accordance with 7 CFR 251.3(h), 60 percent of each State's share of TEFAP commodities and administrative funds is based on the number of people with incomes below the poverty level within the State and 40 percent on the number of unemployed persons within the State. State officials are responsible for establishing the network through which the commodities will be used by eligible recipient agencies (ERAs) in providing nutrition assistance to those in need, and for allocating commodities and administrative funds among those agencies. States have full discretion in determining the amount of commodities that will be made available to ERAs for use in preparing meals and/or for distribution to households for home consumption.

The types of commodities the Department expects to make available to States for distribution through TEFAP in FY 2008 are described below.

Surplus Commodities

Surplus commodities donated for distribution under TEFAP are Commodity Credit Corporation (CCC) commodities purchased under the authority of section 416 of the Agricultural Act of 1949, 7 U.S.C. 1431 (section 416) and commodities purchased under the surplus removal authority of section 32 of the Act of August 24, 1935, 7 U.S.C. 612c (section 32). The types of commodities typically purchased under section 416 include dairy, grains, oils, and peanut products. The types of commodities purchased under section 32 include meat, poultry, fish, vegetables, dry beans, juices, and fruits.

In FY 2008, the Department anticipates that there will be sufficient quantities of cherry products, grapefruit juice, tomatoes, green beans, carrots, peas, spinach, canned beef stew, canned beef, and canned pork to support the distribution of these commodities through TEFAP. Other surplus commodities may be made available to TEFAP throughout the year. The Department would like to point out that commodity acquisitions are based on changing agricultural market conditions; therefore, the availability of commodities is subject to change.

Approximately $16.9 million in surplus commodities acquired in FY 2007 are being delivered to States in FY 2008. These commodities include canned chicken, peanut butter, instant milk, apple juice, applesauce, apricots, frozen asparagus, canned asparagus, cherry apple juice, lamb leg roast, lamb shoulder chops.

Purchased Commodities

In accordance with section 27 of the Food Stamp Act of 1977, 7 U.S.C. 2036, and the Consolidated Appropriations Act, 2008, the Secretary is directed to purchase annually, through FY 2008, $140 million worth of commodities for distribution through TEFAP. These commodities are made available to States in addition to those surplus commodities which otherwise might be provided to States for distribution under TEFAP. However, the Consolidated Appropriations Act, 2008, permits States to convert any or their entire fair share of $10 million of these funds to administrative funds to pay costs associated with the distribution of TEFAP commodities at the State and local level.

For FY 2008, the Department anticipates purchasing the following commodities for distribution through TEFAP: dehydrated potatoes, frozen ground beef, frozen whole and cut-up chicken, frozen ham, frozen turkey roast, blackeye beans, great northern beans, light kidney beans, light red kidney beans, lima beans, pinto beans, egg mix, lowfat bakery mix, egg noodles, white and yellow corn grits, macaroni, oats, peanut butter, whole grain rotini, roasted peanuts, rice, spaghetti, vegetable oil, bran flakes, corn flakes, oat cereal, rice cereal, corn cereal, and corn and rice cereal; and the following canned items: green beans, blackeye beans, refried beans, vegetarian beans, carrots, cream corn, whole kernel corn, peas, sliced potatoes, pumpkin, spaghetti sauce, spinach, sweet potatoes, tomatoes, diced tomatoes, tomato sauce, mixed vegetables, low salt tomato soup, apple juice, cherry apple juice, cranapple juice, grape juice, grapefruit juice, orange juice, tomato juice, apricots, applesauce, mixed fruit, peaches, pears, plums, beef, beef stew, chicken, pork, tuna, and turkey.

The amounts of each item purchased will depend on the prices the Department must pay, as well as the quantity of each item requested by the States. Changes in agricultural market conditions may result in the availability of additional types of commodities or the non-availability of one or more types listed above.

Dated: March 13, 2008.
Roberto Salazar,
Administrator.

[FR Doc. E8-5760 Filed 3-20-08; 8:45 am]

BILLING CODE 3410-30-P